DEPARTMENT OF AGRICULTURE

Animal and Plant Health Inspection Service

9 CFR Part 78

[Docket No. APHIS-2006-0001]

Brucellosis in Cattle; State and Area Classifications; ID

AGENCY: Animal and Plant Health Inspection Service, USDA.

ACTION: Interim rule and request for comments.

SUMMARY: We are amending the brucellosis regulations concerning interstate movement of cattle by changing the classification of Idaho from Class Free to Class A. We have determined that Idaho no longer meets the standards for Class Free status. This action is necessary to prevent the interstate spread of brucellosis.

DATES: This interim rule was effective January 12, 2006. We will consider all comments that we receive on or before March 20, 2006.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2006-0001 to submit or view public comments and to view supporting and related materials available electronically. After the close of the comment period, the docket can be viewed using the “Advanced Search” function in Regulations.gov.

• Postal Mail/Commercial Delivery: Please send four copies of your comment (an original and three copies) to Docket No. APHIS-2006-0001, Regulatory Analysis and Development, PPD, APHIS, Station 3A-03.8, 4700 River Road Unit 118, Riverdale, MD 20737-1238. Please state that your comment refers to Docket No. APHIS-2006-0001.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Debra Donch, National Brucellosis Epidemiologist, National Center for Animal Health Programs, VS, APHIS, 4700 River Road Unit 43, Riverdale, MD 20737-1231; (301) 734-6954.

SUPPLEMENTARY INFORMATION:

Background

Brucellosis is a contagious disease caused by bacteria of the genus Brucella. The disease mainly affects cattle, bison, and swine, but goats, sheep, horses, and even humans are susceptible. In its principal animal hosts, it causes loss of young through spontaneous abortion or birth of weak offspring, reduced milk production, and infertility. There is no economically feasible treatment for brucellosis in livestock. In humans, brucellosis initially causes flu-like symptoms, but the disease may develop into a variety of chronic conditions, including arthritis. Humans can be treated for brucellosis with antibiotics.

The brucellosis regulations, contained in 9 CFR part 78 (referred to below as the regulations), provide a system for classifying States or portions of States according to the rate of Brucella infection present and the general effectiveness of a brucellosis control and eradication program. The classifications are Class Free, Class A, Class B, and Class C. States or areas that do not meet the minimum standards for Class C are required to be placed under Federal quarantine.

The brucellosis Class Free classification is based on a finding of no known brucellosis in cattle for the 12 months preceding classification as Class Free. The Class C classification is for States or areas that exceed, during any consecutive 12-month period, a herd infection rate of 1.5 percent or 15 herds per 1,000. Class B and Class A fall between these two extremes. Restrictions on moving cattle interstate become less stringent as a State approaches or achieves Class Free status.

The standards for the different classifications of States or areas entail (1) maintaining a cattle herd infection rate not to exceed a stated level during 12 consecutive months; (2) tracing back to the farm of origin and successfully closing a stated percentage of all brucellosis reactors found in the course of Market Cattle Identification (MCI) testing; (3) maintaining a surveillance system that includes testing of dairy herds, participation of all recognized slaughtering establishments in the MCI program, identification and monitoring of herds at high risk of infection (including herds adjacent to infected herds and herds from which infected animals have been sold or received), and having an individual herd plan in effect within a stated number of days after the herd owner is notified of the finding of brucellosis in a herd he or she owns; and (4) maintaining minimum procedural standards for administering the program.

If a single herd in a Class Free State is found to be affected with brucellosis, the State may retain its Class Free status if it meets the conditions described in paragraph (b)(4) of the definition of Class Free State or area in § 78.1. A State may retain its status in this manner only once during any 2-year period. The following conditions must be satisfied within 60 days of the identification of the infected animal:

1. The affected herd must be immediately quarantined, tested for brucellosis, and depopulated; and

2. An epidemiological investigation must be performed and the investigation must confirm that brucellosis has not spread from the affected herd. All herds on premises adjacent to the affected herd (adjacent herds), all herds from which animals may have been brought into the affected herd (source herds), and all herds that may have had contact with or accepted animals from the affected herd (contact herds) must be epidemiologically investigated, and each of those herds must be placed under an approved individual herd plan. If the investigating epidemiologist determines that a herd blood test for a particular adjacent herd, source herd, or contact herd is not warranted, the epidemiologist must include that determination, and the reasons supporting it, in the individual herd plan.

After the close of the 60-day period following the identification of the infected animal, APHIS will conduct a review to confirm that the requirements have been satisfied and that the State is in compliance with all other applicable provisions.

Prior to the effective date of this interim rule, Idaho was classified as a Class Free State. On November 14, 2005, we confirmed the discovery of a brucellosis-affected herd in Idaho. In accordance with § 78.1, the State took immediate measures to maintain its Class Free status. However, on November 29, 2005, another brucellosis-affected herd was confirmed. With the discovery of the second affected herd, Idaho no longer meets the standards for Class Free status. Therefore, we are removing Idaho from the list of Class Free States or areas in § 78.41(a) and adding it to the list of Class A States or areas in § 78.41(b).

Under the definition of Class A State or Area in § 78.1, the regulations require that to attain and maintain Class A status, a State or area must (1) not exceed a cattle herd infection rate, due to field strain Brucella abortus, of 0.25 percent or 2.5 herds per 1,000 based on the number of reactors found within the State during any 12 consecutive months, except in States with 10,000 or fewer herds; (2) trace to the farm of origin at least 90 percent of all brucellosis reactors found in the course of MCI testing; (3) successfully close at least 95 percent of the MCI reactor cases traced to the farm of origin during the 12 consecutive month period immediately prior to the most recent anniversary of the date the State or area was classified Class A; and (4) have a specified surveillance system, as described above, including an approved individual herd plan in effect within 15 days of locating a source herd or recipient herd. After reviewing the brucellosis program records for Idaho, we have concluded that this State meets the standards for Class A status.

Emergency Action

This rulemaking is necessary on an emergency basis to prevent the interstate spread of brucellosis. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This rule amends the brucellosis regulations concerning interstate movement of cattle by changing the classification of Idaho from Class Free to Class A. We have determined that Idaho no longer meets the standards for Class Free status. This action is necessary to prevent the spread of brucellosis in the United States.

On January 1, 2005, there were 10,600 cattle and calves operations in Idaho with a total inventory of approximately 2.07 million head of cattle. Industry statistics indicate the average value per head of cattle in Idaho is $1,080, with a reported cash value totaling over $2.24 billion. The small business size standards for cattle operations, as identified by the Small Business Administration based upon the North American Industry Classification System (NAICS) code 112111, is $750,000 or less in annual receipts. It is estimated that 96 percent of the cattle and calves operations in Idaho are small businesses.

A reclassification from Class Free to Class A status with respect to brucellosis will result in movement restrictions for cattle where previously none existed. Specifically, all bovine animals to be moved interstate, except those moving directly to slaughter or to quarantined feedlots, must test negative to a brucellosis test prior to interstate movement. The estimated cost for brucellosis testing, which would include veterinary fees and handling expenses, is between $7.50 and $15 per test. The expenses incurred as a result of this reclassification in status are not expected to be significant for cattle and calf owners in Idaho. Considering the average value per animal in Idaho was $1,080 in 2005, the additional costs to producers associated with brucellosis testing are roughly between 0.6 and 1.3 percent of the value of the animal intended for interstate movement. It is estimated that 17 percent of the cattle in Idaho destined for feeding and breeding purposes are transported out of State. Therefore, the estimated increase in industry costs associated with a reclassification of Idaho to a Class A status may range between $2.6 and $5.3 million.

The more a particular herd owner is involved in interstate movement, the greater the economic expense he or she will incur as a result of this rule. However, it is clear that this change in status will not represent an economically significant loss for cattle and calves herd owners in Idaho. While this change in status will result in additional requirements for interstate movement of cattle for Idaho producers, the benefits of the restriction in preventing the spread of brucellosis to other parts of the United States exceeds the additional costs of brucellosis testing.

The Cooperative State/Federal Brucellosis Eradication Program has produced undeniable benefits since its implementation. Annual losses from lowered milk production, aborted calves and pigs, and reduced breeding efficiency were more than $400 million in 1952 before the program began. Today, such annual losses are estimated at less than $1 million. Studies indicate the costs of producing beef and milk would increase by an estimated $80 million annually in less than 10 years if the program were discontinued.

The change in the status of Idaho to Class A will lead to additional costs associated with brucellosis testing that will range from 0.6 to 1.3 percent of the value of the animals moved interstate. APHIS does not expect additional costs of this magnitude to have a significant impact on affected small-entity producers.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 9 CFR Part 78

Animal diseases, Bison, Cattle, Hogs, Quarantine, Reporting and recordkeeping requirements, Transportation.

Accordingly, we are amending 9 CFR part 78 as follows:

PART 78—BRUCELLOSIS

1. The authority citation for part 78 continues to read as follows:

Authority: 7 U.S.C. 8301-8317; 7 CFR 2.22, 2.80, and 371.4.

§ 78.41 [Amended]

2. Section 78.41 is amended as follows:

a. In paragraph (a), by removing the word “Idaho,”.

b. In paragraph (b), by removing the word “Texas” and adding the words “Idaho, Texas,” in its place.

Done in Washington, DC, this 12th day of January 2006.
W. Ron DeHaven,
Administrator, Animal and Plant Health Inspection Service.

[FR Doc. 06-472 Filed 1-18-06; 8:45 am]

BILLING CODE 3410-34-P